DEPARTMENT OF HEALTH AND HUMAN SERVICES

National Institutes of Health

National Cancer Institute; Notice of Closed Meeting

Pursuant to section 10(d) of the Federal Advisory Committee Act, as amended (5 U.S.C. Appendix 2), notice is hereby given of the following meeting.

The meeting will be closed to the public in accordance with the provisions set forth in sections 552b(c)(4) and 552b(c)(6), as amended. The concept review and the discussions could disclose confidential trade secrets or commercial property such as patentable material, and personal information concerning individuals associated with the concept review, the disclosure of which would constitute a clearly unwarranted invasion of personal privacy.

Name of Committee: National Cancer Institute Special Emphasis Panel, P4 Concept Review.

Date: April 25, 2006.

Time: 8 a.m. to 2 p.m.

Agenda: To review and evaluate concept review.

Place: Residence Inn Bethesda, 7335 Wisconsin Ave., Bethesda, MD 20814.

Contact Person: Timothy C. Meeker, PhD, Scientific Review Administrator, Special Review and Logistics Branch, National Cancer Institute, 6116 Executive Boulevard, Room 8103, Bethesda, MD 20892. 301-594-1279, meekert@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support, 93.398, Cancer Research Manpower, 93.399, Cancer Control, National Institutes of Health, HHS)

Dated: March 29, 2006.
Anna Snouffer,
Acting Director, Office of Federal Advisory Committee Policy.

[FR Doc. 06-3223 Filed 4-4-06; 8:45 am]

BILLING CODE 4140-01-M